DEPARTMENT OF HOMELAND SECURITY

Federal Emergency Management Agency

44 CFR Part 67

[Docket No. FEMA-B-7458]

Proposed Flood Elevation Determinations

AGENCY: Federal Emergency Management Agency (FEMA), Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Mitigation Division, Federal Emergency Management Agency, 500 C Street, SW., Washington, DC 20472, (202) 646-2903.

SUPPLEMENTARY INFORMATION: FEMA proposes to make determinations of BFEs and modified BFEs for each community listed below, in accordance with Section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act

This proposed rule is categorically excluded from the requirements of 44 CFR part 10, Environmental Consideration. No environmental impact assessment has been prepared.

Regulatory Flexibility Act

The Mitigation Division Director of the Federal Emergency Management Agency certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification

This proposed rule is not a significant regulatory action under the criteria of Section 3(f) of Executive Order 12866 of September 30, 1993, Regulatory Planning and Review, 58 FR 51735.

Executive Order 13132, Federalism

This rule involves no policies that have federalism implications under Executive Order 13132.

Executive Order 12988, Civil Justice Reform

This rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376, § 67.4.

2. The tables published under the authority of § 67.4 are proposed to be amended as follows:

Flooding source(s) | Location of referenced elevation | *Elevation in feet (NGVD) +Elevation in feet (NAVD) #Depth in feet above ground: Effective | *Elevation in feet (NGVD) +Elevation in feet (NAVD) #Depth in feet above ground: Modified | Communities affected
Clear Creek County, Colorado and Incorporated Areas
Chicago Creek | Confluence With Clear Creek | NA | 7,546+ | Clear Creek County (Unincorporated Areas) and City of Idaho Springs.
Clear Creek | 2.24 miles upstream of state Highway 103 | NA | 7,898+
| Upstream side of I-70 (Alvorado Road) | NA | 8,275+ | Town of Georgetown.
| The bottom spillway of the Georgetown Dam | NA | 8,430+
Clear Creek | 0.27 miles upstream of the confluence with Spring Gulch | NA | 7,836+ | Clear Creek County (Unincorporated Areas).
| 3.77 miles upstream of the confluence with Spring Gulch | NA | 8,180+
Fall River | Confluence with Clear Creek | NA | 7,716+ | Clear Creek County (Unincorporated Areas).
| Three miles upstream of confluence with Clear Creek | NA | 8,394+
ADDRESSES
Unincorporated Areas of Clear Creek County:
Maps are available for inspection at The County Courthouse.
Send Comments to Mr. Harry Dale, Chairman, Clear Creek County Commissioners, 405 Argentine Street, Georgetown, Colorado 80444.
Town of Georgetown:
Maps are available for inspection at Town Hall.
Send comments to The Honorable Robert C. Smith, Mayor, Town of Georgetown, 404 6th Street, Georgetown, Colorado 80444.
City of Idaho Springs:
Maps are available for inspection at City Hall.
Send comments to The Honorable Dennis Lundery, Mayor, City of Idaho Springs, 1711 Miner Street, Idaho Springs, Colorado 80452.
Larimer County, Colorado and Incorporated Areas
Big Thompson River | Approximately 0.4 miles upstream of County Road 3 | None | +4,880 | Larimer County (Uninc. Areas), City of Loveland.
| Approximately 300 feet west of Lincoln Avenue and approximately 1,700 feet west of St. Louis Avenue | None | #2
| Just downstream of St. Louis Avenue | +4,920 | +4,923
| Just upstream of St. Louis Avenue | +4,921 | +4,924
| Just east of Taft Avenue to 900 feet west of Taft Avenue Garfield Avenue | None | #1
| South of Dry Creek and north of Rossum Drive | None | #3
| Approximately 1,400 feet upstream of confluence of Dry Creek | None | +5,046
| Southwest of U.S. Highway 34 | None | #2
| Just downstream of confluence with Buckhorn Creek | +5,094 | +5,097
Big Thompson River—South Spill | At confluence with Big Thompson River | None | +4,938 | Larimer County (Uninc. Areas) and City of Loveland.
| Just upstream of Taft Avenue | None | +4,970
Big Thompson River—Gravel Pit Split | At confluence with Big Thompson River | None | +4,888 | Larimer County (Uninc. Areas).
| Approximately 1,900 feet upstream of confluence with Big Thompson River | None | +4,899
Big Thompson River Overflow | Just upstream of confluence with Big Thompson River | None | +5,047 | Larimer County (Uninc. Areas), City of Loveland.
| Approximately 0.4 miles upstream of confluence with Big Thompson River | None | +5,078
Boxelder Creek | Approximately 200 feet upstream above confluence with Cache La Poudre River | None | +4,868 | City of Fort Collins, Larimer County (Uninc. Areas).
| Approximately 1,000 feet east of Interstate Highway 25 | None | #2
| Just upstream of Vine Drive | +4,966 | +4,972
| Just north of Vine Drive | None | #2
| Just upstream of County Road 52 | +5,021 | +5,024
| Approximately 500 feet north of County Road 52 | None | #2
| Approximately 1,000 feet north of County Road 52 | None | #1
| Just downstream of County Road 54 | +5,051 | +5,054
Boxelder Creek Overflow—Downstream Reach | Approximately 1,600 feet above confluence with Boxelder Creek | None | +4,933 | City of Fort Collins, Larimer County (Uninc. Areas).
| Limit of Detailed Study (Approximately 2.1 miles above confluence with Boxelder Creek) | None | +4,975
Boxelder Creek Overflow—Upstream Reach | Above Larimer and Weld Canal | None | +4,982 | City of Fort Collins, Larimer County (Uninc. Areas).
| Limit of Detailed Study (Approximately 2.3 miles above Larimer and Weld Canal) | None | +5,038
Boxelder Creek I-25 Split | Approximately 500 feet upstream of Larimer County Road 5 | None | +4,875 | City of Fort Collins, Larimer County (Uninc. Areas).
| Limits of Detailed Study (Approx. 3.1 miles upstream of Larimer County Road 5) | None | +4,921
Boxelder Creek I-25 Split | Approximately 600 feet upstream of confluence with Boxelder Creek | None | +4,890 | City of Fort Collins, Larimer County (Uninc. Areas).
| Approximately 1,500 feet upstream of confluence with Boxelder Creek | None | +4,894
Cache La Poudre River | Approximately 1,500 feet downstream from Shields Street | +4,981 | +4982 | City of Fort Collins, Larimer County (Uninc. Areas).
| Just west of Shields Street to approximately 500 feet west of Shields Street | None | +(5,000)
| Approximately 500 feet west of Shields Street | None | #2
| Approximately 2,000 feet downstream of Overland Trail Road | +5,045 | +5,048
| Approximately 1,000 feet upstream of Overland Trail Road | +5,062 | +5,063
| Approximately 1,800 feet upstream of County Road 52E | +5,118 | +5,119
Cache La Poudre River Split RPath | At Gravel Pit Access Road | None | +4,884 | City of Fort Collins, Larimer County (Uninc. Areas).
| Approximately 0.7 miles above Gravel Pit Access Road | None | +4,900
Cache La Poudre River Split LPath | Approximately 0.5 miles above Gravel Pit Access Road | None | +4,896 | City of Fort Collins, Larimer County (Uninc. Areas).
| Approximately 0.6 miles above Gravel Pit Access Road | None | +4,898
Cooper Slough | Approximately 800 feet upstream of State Highway 14 | None | +4,922 | City of Fort Collins, Larimer County (Uninc. Areas).
| Approximately 600 feet south of C and S Railroad | None | #2
| Approximately 1,200 feet north of Vine Drive to approximately 1,800 feet north of Vine Drive | None | +(4964)
| Approximately 0.6 miles upstream of Vine Drive | None | +4,972
Cooper Slough Overflow | Just south of confluence with Lake Canal and just north of Cache La Poudre Inlet Ditch | None | #3 | City of Fort Collins, Larimer County (Uninc. Areas).
| At confluence with Lake Canal | None | +4,917
| Approximately 0.9 miles upstream of confluence with Lake Canal | None | +4,936
Dry Creek | Just upstream of confluence with Big Thompson River | None | +5,043 | City of Loveland.
| Approximately 0.4 miles upstream of confluence with Big Thompson River | None | +5,065
Glade Road Split | Just upstream of confluence with Big Thompson River | None | +5,047 | Larimer County (Uninc. Areas), City of Loveland.
| Approximately 0.9 miles upstream of confluence with Big Thompson River | None | +5,078
Sherry Drive Overflow | Approximately 1,000 feet upstream of Cache La Poudre Reservoir Inlet Ditch | None | +4,918 | City of Fort Collins.
| Approximately 1,800 feet upstream of Cache La Poudre Reservoir Inlet Ditch | None | +4,920
Shield Street Divided Flow Path—Hill Pond Road | Approximately 400 feet downstream of Shire Court | None | +5,010 | City of Fort Collins, Larimer County (Uninc. Areas).
| South of Gilgalad Way and north of Hill Pond Road | None | #1
| Just west of convergence of Hill Pond Road and Windtrail Swale | None | #1
| South of Hill Pond Road and north of Shire Court | None | #1
| Approximately 100 feet downstream of Shields Street | None | +5,021
Shield Street Divided Flow Path—Shire Court | Just downstream of Chetwood Court | None | +5,012 | City of Fort Collins, Larimer County (Uninc. Areas).
| North of Shire court and east of Shields Street | None | #2
| Just downstream of Shields Street | None | +5,024
Shield Street Divided Flow Path—Windswale Trail | Approximately 3.8 miles upstream above confluence with Cache La Poudre River | None | +5,003 | City of Fort Collins, Larimer County (Uninc. Areas).
| Approximately 4.2 miles upstream above confluence with Cache La Poudre River | None | +5,017
Spring Creek | Approximately 700 feet upstream above confluence with Cache La Poudre River | +4,904 | +4,905 | City of Fort Collins, Larimer County (Uninc. Areas).
| Around intersection of Prospect Road and Sharp Point Drive | None | #2
| North of Prospect Road and East of Timberline Road | None | +(4,905)
| Just upstream of Lemay Avenue | +4,946 | +4,947
| Around intersection of Stuart Street and Stover Street | None | #3
| East of C and S Railroad and south of Prospect Court | None | #2
| Just upstream of Shields Street | +5,016 | +5,018
| West of Shields Street | None | #2
| Approximately 2,000 feet downstream from Shields Street | None | #2
| Just upstream of Taft Hill Road | +5,086 | +5,087
| Approximately 2.1 miles upstream of Taft Hill Road | None | +5,173
| Approximately 2.1 miles upstream of Taft Hill Road | None | +5,173
Unincorporated Areas Larimer County:
Maps are available for inspection at the Larimer County Courthouse, 200 West Oak Street, Fort Collins, Colorado 80521.
Send comments to The Honorable Kathay Rennels, Chair, Larimer County Board of Commissioners, P.O. Box 1190, Fort Collins, Colorado 80522-1190.
City of Loveland:
Maps are available for inspection at City Hall, 500 East Third Street, Loveland, Colorado 80537.
Send comments to The Honorable Larry Walsh, Mayor, City of Loveland, 500 East Third Street, Loveland, Colorado 80537.
City of Fort Collins:
Maps are available for inspection at the Fort Collins Stormwater Utilities Department, 700 Wood Street, Fort Collins, Colorado 80521.
Send comments to The Honorable Doug Hutchinson, Mayor, City of Fort Collins, 300 LaPorte Avenue, P.O. Box 580, Colorado 80522-0580.
Essex County, New Jersey and Incorporated Areas
Bear Brook | At Confluence with Canoe Brook | 223* | 223+ | Township of Livingston.
| Approximately 1800 feet upstream of East Cedar Street | 369* | 367+
Canoe Brook | Approximately 1500 feet downstream of S. Orange Avenue | 202* | 202+ | Township of Livingston.
| At Confluence of Bear Brook | 223* | 223+
Canoe Brook Tributary No. 1 | At Confluence with Canoe Brook | 202* | 204+ | Township of Livingston, Township of Milburn.
| Approximately 1100 feet upstream of White Oak Ridge Road | 252* | 254+
Crystal Lake Branch | At Confluence with West Branch of Rahway River | 372* | 372+ | Township of West Orange.
| Approximately 200 feet upstream of Clarken Drive | 499* | 498+
Peckman River | Approximately 1300 feet upstream of Erie Railroad | 177* | 180+ | Township of Cedar Grove, Township of Verona, Township of West Orange.
| Approximately 250 feet downstream of Highway 577 | 472* | 474+
East Branch Rahway River | Approximately 200 feet upstream of Millburn Avenue | 100* | 99+ | City of Orange, Village of South Orange, Township of Maplewood.
| Just downstream of Forest Street | 160* | 167+
West Branch Rahway River | Approximately 400 feet downstream of Orange Reservoir Dam | 300* | 298+ | Township of West Orange.
| At Garfield Avenue | 375* | 374+
Slough Brook | Just downstream of Parsonage Hill Road | 179* | 177+ | Township of Livingston.
| At Irving Avenue | 280* | 280+
*National Geodetic Vertical Datum.
+North American Vertical Datum.
ADDRESSES
Township of Cedar Grove:
Maps are available for inspection at the following location: Municipal Building, 525 Pompton Avenue, Cedar Grove, NJ 07009.
Send comments to: The Honorable Thomas Tucci, Township Manager, Township of Cedar Grove, Township of Cedar Grove Municipal Building, 525 Pompton Avenue, Cedar Grove, NJ 07009.
Township of Livingston:
Maps are available for inspection at the following location: Town Hall, 357 South Livingston Avenue, Livingston, NJ 07039.
Send comments to: The Honorable Michele Meade, Township Manger, Township of Livingston, Town Hall, 357 South Livingston Avenue, Livingston, NJ 07039.
Township of Maplewood:
Maps are available for inspection at the following location: Town Hall, 570 Valley Street, Maplewood, NJ 07040.
Send comments to: The Honorable Fred R. Profeta, Mayor, Township of Maplewood, or Mr. Joseph F. Manning, Administrator, Town Hall, 574 Valley Street, Maplewood, NJ 07040.
Township of Millburn:
Maps are available for inspection at the following location: Town Hall, 375 Millburn Avenue, Millburn, NJ 07041.
Send comments to: The Honorable Thomas Dermott, Mayor, Township of Millburn or Mr. Timothy Gordon, Administrator, Township of Millburn, Town Hall, 375 Millburn Avenue, Millburn, NJ 07041.
City of Orange:
Maps are available for inspection at the following location: City Hall, 29 North Day Street, Orange, NJ 07050.
Send comments to: The Honorable Mims Hackett, Mayor, City of Orange, City Hall, 29 North Day Street, Orange, NJ 07050.
South Orange Village:
Maps are available for inspection at the following location: South Orange Village Hall, 101 South Orange Avenue, South Orange, NJ 07079.
Send comments to: The Honorable William Calabrese, Village President, Village of South Orange, South Orange Village Hall, 101 South Orange Avenue, South Orange, NJ 07079.
Township of Verona:
Maps are available for inspection at the following location: Town Hall, 600 Bloomfield Avenue, Verona, NJ 07044.
Send comments to: The Honorable Jay Sniatkowski, Mayor, Township of Verona, Town Hall, 600 Bloomfield Avenue, Verona, NJ 07044.
Township of West Orange:
Maps are available for inspection at the following location: Town Hall, 66 Main Street, West Orange, NJ 07052.
Send comments to: The Honorable John F. McKeon, Mayor, Township of West Orange, Town Hall, 66 Main Street, West Orange, NJ 07052.
Philadelphia County, Pennsylvania and Incorporated Areas
Byberry Creek | Approximately 500 feet downstream from Thornton Road | None | *88 | City of Philadelphia.
| Approximately 900 feet upstream from Roosevelt Boulevard | None | *136
Tributary to Poquessing Creek | Approximately 1,280 feet downstream from Whitney Street | None | *144 | City of Philadelphia.
| Approximately 1,400 feet upstream from SEPTA bridge | None | *180
ADDRESSES
City of Philadelphia:
Maps are available for inspection at Philadelphia City Planning Commission, Philadelphia, PA 19102
Send comments to Mr. William Erickson, City Planner, City of Philadelphia, 1515 Arch Street, 13th Floor, Philadelphia, PA 19102.
Maury County, Tennessee and Incorporated Areas
Duck River | Approximately 6,680 feet downstream of the confluence Roberts Bend Branch | None | +562 | Maury County (Unincorporated Areas).
| Approximately 2,040 feet downstream of the confluence Little Bigby Creek | *576 | +576
Duck River | Approximately 1,800 feet downstream of the confluence Bear Creek | *588 | +588 | Maury County (Unincorporated Areas), City of Columbia.
| Approximately 3,680 feet upstream of the confluence Flat Creek | None | +634
Fountain Creek | At the confluence of Fountain Creek with Duck River | None | +604 | Maury County (Unincorporated Areas).
| Approximately 3,000 feet upstream of Culleoka Highway | None | +663
Silver Creek | At the confluence of Silver Creek with Fountain Creek | None | +604 | Maury County (Unincorporated Areas).
| Approximately 200 feet upstream of Kerr Road | None | +661
ADDRESSES
Unincorporated Areas of Maury County:
Maps are available for inspection at the Community Map Repository, County Courthouse, 41 Public Square, Columbia, TN 38401.
Send all comments to The Honorable James Bailey, County Judge—Executive, 41 Public Square, Columbia, Tennessee 38401.
City of Columbia:
Maps are available for inspection at the Community Map Repository, 707 North Main Street, Columbia, TN 38401.
Send all comments to The Honorable Barbara McIntyre, Mayor, City of Columbia, 707 North Main Street, Columbia, Tennessee 38401.
Rutherford County, Tennessee and Incorporated Areas
Andrews Creek | Confluence with East Fork Stones River | None | +608 | Rutherford County (Unincorporated Areas).
| Approximately 50 feet upstream of Hollingsworth Road | None | +657
Armstrong Branch | Confluence with Puckett Creek | None | +630 | Rutherford County (Unincorporated Areas), City of Murfreesboro.
| Approximately 2,070 feet upstream of Yeargan Road | None | +648
Bear Branch | Confluence with East Fork Stones River | *539 | +538 | Rutherford County (Unincorporated Areas), City of Murfreesboro.
| Approximately 1,720 feet downstream of Compton Road | *539 | +538
Big Springs Creek | Confluence with Hurricane Creek | None | +723 | Rutherford County (Unincorporated Areas).
| Approximately 1,010 upstream of Jimmy C Newman Road | None | +775
Bradley Creek | Confluence with East Fork Stones River | *559 | +558 | Rutherford County (Unincorporated Areas).
| Approximately 5,280 feet upstream of King Road | None | +685
Bushman Creek | Confluence with East Fork Stones River | *546 | +545 | Rutherford County (Unincorporated Areas).
| Approximately 1,400 feet upstream of New Lascassas Road | None | +596
Cheatham Branch | Confluence with Harpeth River | None | +724 | Rutherford County (Unincorporated Areas), City of Eagleville.
| Approximately 3,420 feet upstream of South Main Street | None | +788
Christmas Creek | Approximately 1,400 upstream of the confluence with West Fork Stones River | None | +639 | Rutherford County (Unincorporated Areas).
| Approximately 930 feet upstream of Christiana Fosterville Road | None | +698
Concord Branch | Confluence with Harpeth River | None | +739 | Rutherford County (Unincorporated Areas).
| Approximately 1,200 feet upstream of Ditch Lane | None | +749
Cripple Creek | Confluence with East Fork Stones River | None | +579 | Rutherford County (Unincorporated Areas).
| Approximately 1,890 feet upstream of Big Springs Road | None | +874
Dry Branch | Confluence with Cripple Creek | None | +592 | Rutherford County (Unincorporated Areas).
| Approximately 1,350 upstream of John Bragg Highway | None | +652
Dry Creek | Confluence with Hurricane Creek | None | +712 | Rutherford County (Unincorporated Areas).
| Approximately 760 feet upstream of Cobb Road | None | +746
Dry Fork | Confluence with Bradley Creek | None | +603 | Rutherford County (Unincorporated Areas).
| Approximately 2.5 miles upstream of Givens | None | +695 |
Dry Form Creek | Confluence with East Fork Stones River | None | +685 | Rutherford County (Unincorporated Areas).
| Approximately 4,640 feet upstream of Brothers Road | None | +854 |
East Fork Stones River | Approximately 2,900 feet downstream of State Route 840 | *507 | +506 | Rutherford County (Unincorporated Areas), City of Murfreesboro.
| Approximately 4,220 feet upstream of Goochie Ford Road | None | +620 |
Fall Creek | Approximately 1.4 miles downstream of Powells Chapel Road | None | +508 | Rutherford County (Unincorporated Areas).
| Approximately 1.7 miles upstream of Fall Parkway | None | +556 |
Finch Branch | Approximately 990 feet downstream of Jefferson Pike | None | +580 | City of Lavergne.
| Approximately 1,428 feet upstream of Greenwood Drive | None | +619 |
Harpeth River | Approximately 1,680 feet downstream of College Road | None | +706 | Rutherford County (Unincorporated Areas), City of Eagleville.
| Approximately 680 feet upstream of North Lane | None | +737 |
Henry Creek | Confluence with Short Creek | None | +681 | Rutherford County (Unincorporated Areas).
| Approximately 2,980 feet upstream of Sims Road | None | +750 |
Hurricane Creek | Confluence with Middle Forks Stones River | None | +655 | Rutherford County (Unincorporated Areas).
| Approximately 1.3 miles upstream of Cobb Road | None | +723 |
Kelly Creek | Confluence with Harpeth River | None | +726 | Rutherford County (Unincorporated Areas).
| Approximately 2,150 feet upstream of Floyd Road | None | +797 |
Long Creek | Approximately 4,910 feet upstream of confluence with Middle Fork Stones River | *635 | +636 | Rutherford County (Unincorporated Areas).
| Approximately 1.9 miles upstream of Jacobs Bend Road | None | +672 |
Lytle Creek | Approximately 1.3 miles upstream of Diton-Mankin Road | None | +657 | Rutherford County (Unincorporated Areas).
| Approximately 4,000 feet upstream of Cedar Grove Road | None | +722 |
McElroy Branch | Confluence with Cripple Creek | None | +629 | Rutherford County (Unincorporated Areas).
| Approximately 1,020 feet upstream of Murray Kittrell Road | None | +670 |
McKnight Branch | Confluence with East Fork Stones River | None | +606 | Rutherford County (Unincorporated Areas).
| Approximately 2.6 miles upstream of E. Trimble Road | None | +658 |
Middle Fork Stones River | Approximately 1.5 miles downstream of Epps Mill Road | None | +651 | Rutherford County (Unincorporated Areas).
| Approximately 4,730 feet upstream of Interstate 24 | None | +774 |
Murray Branch | Confluence with McElroy Branch | None | +653 | Rutherford County (Unincorporated Areas).
| Approximately 1.4 miles upstream of Floration Road | None | +710 |
Olive Branch | Approximately 2,950 feet upstream of Rocky Ford Road | None | +584 | Rutherford County (Unincorporated Areas).
| Approximately 2.6 miles upstream of Rocky Ford Road | None | +684
Overall Creek | Approximately 530 feet downstream of South Windrow Road | None | +634 | Rutherford County (Unincorporated Areas).
| Approximately 9,910 feet upstream of South Windrow Road | None | +703
Panther Creek | Approximately 1,400 feet upstream of the confluence with West Fork Stones River | *646 | +647 | Rutherford County (Unincorporated Areas).
| Approximately 2.9 miles upstream of Midland Road | None | +702
Puckett Creek | Just upstream of Old Salem Road | None | +627 | Rutherford County (Unincorporated Areas).
| Approximately 4,300 feet upstream of Old Salem Road | None | +636
Reed Creek | Confluence with Cripple Creek | None | +715 | Rutherford County (Unincorporated Areas).
| Approximately 1.8 miles upstream of Bradyville Pike | None | +892
Rocky Fork Creek | Approximately 2,400 feet upstream of Almaville Road | None | +559 | Rutherford County (Unincorporated Areas).
| Approximately 1,250 feet upstream of Laddie Lane | None | +649
Short Creek | Confluence with Long Creek | None | +672 | Rutherford County (Unincorporated Areas).
| Approximately 3,310 feet upstream of Millersburg Road | None | +840
Stewart Creek | Approximately 60 feet upstream of Almaville Road | None | +603 | Rutherford County (Unincorporated Areas).
| Approximately 940 feet upstream of Almaville Road | None | +605
Stinking Creek | Approximately 410 feet upstream of Hollandale Road | None | +506 | City of Lavergne.
| Approximately 1,220 feet upstream of Bill Stewart Blvd | None | +584
Unnamed Tributary 007 | Confluence with McKnight Branch | None | +624 | Rutherford County (Unincorporated Areas).
| Approximately 1.1 miles upstream of the confluence with McKnight Branch | None | +650
Unnamed Tributary 009 | Confluence with Wades Branch | None | +574 | Rutherford County (Unincorporated Areas).
| Approximately 570 feet upstream of Dunaway Chapel Road | None | +616
Unnamed Tributary 011 | Confluence with Unnamed Tributary 009 | None | +574 | Rutherford County (Unincorporated Areas).
| Approximately 1,720 upstream of Dunaway Chapel Road | None | +605
Unnamed Tributary 014 | Approximately 300 feet upstream of the confluence with Stewart Creek | None | +572 | Rutherford County (Unincorporated Areas).
| Approximately 4,210 feet upstream of State Route 96 | None | +658
Unnamed Tributary 018 | Confluence with Cripple Creek | None | +598 | Rutherford County (Unincorporated Areas).
| Approximately 3,540 feet upstream of Cranor Road | None | +605
Unnamed Tributary 026 | Approximately 700 feet upstream of the confluence with Stewart Creek | None | +560 | Rutherford County (Unincorporated Areas).
| Approximately 3,100 feet upstream of Almaville Road | None | +632
Unnamed Tributary 028 | Approximately 1,150 downstream of Almaville Road | None | +566 | Rutherford County (Unincorporated Areas).
| Approximately 1,850 feet upstream of Woodland Trail | None | +630
Unnamed Tributary 046 | Confluence with Harpeth River | None | +714 | Rutherford County (Unincorporated Areas).
| Approximately 970 feet upstream of N Highway 41A | None | +731
Unnamed Tributary 047 | Confluence with Harpeth River | None | +719 | Rutherford County (Unincorporated Areas).
| Approximately 5,510 feet upstream of Rocky Glade Road | None | +759
Unnamed Tributary 049 | Approximately 3,670 feet downstream of N Highway 41A | None | +706 | Rutherford County (Unincorporated Areas).
| Approximately 373 feet upstream of of N Highway 41A | None | +724
Unnamed Tributary 051 | Confluence with Unnamed Tributary 052 | None | +689 | Rutherford County (Unincorporated Areas).
| Approximately 1,620 feet upstream of Manus Road | None | +703
Unnamed Tributary 052 | Confluence with Murray Branch | None | +686 | Rutherford County (Unincorporated Areas).
| Approximately 2,980 feet upstream of Manus Road | None | +723
Unnamed Tributary 055 | Confluence with Middle Fork Stones River | None | +670 | Rutherford County (Unincorporated Areas).
| Approximately 250 feet upstream of Broyles Road | None | +730
Unnamed Tributary 056 | Confluence with Unnamed Tributary 055 | None | +693 | Rutherford County (Unincorporated Areas).
| Approximately 2,500 upstream of Christiana Hoovers Gap Road | None | +716
Unnamed Tributary 057 | Confluence with Unnamed Tributary 055 | None | +702 | Rutherford County (Unincorporated Areas).
| Approximately 680 feet upstream of the confluence with Unnamed Tributary 057 | None | +704
Unnamed Tributary 058 | Confluence with Middle Fork Stones River | None | +691 | Rutherford County (Unincorporated Areas).
| Approximately 2,500 feet upstream of confluence with Middle Fork Stones River | None | +706
Unnamed Tributary 069 | Confluence with Harpeth River | None | +726 | Rutherford County (Unincorporated Areas).
| Approximately 5,400 feet upstream of Swamp Road | None | +734
Unnamed Tributary 081 | Confluence with Long Creek | None | +672 | Rutherford County (Unincorporated Areas).
| Approximately 930 feet upstream of Johnson Road | None | +678
Unnamed Tributary 092 | Confluence with Panther Creek | None | +680 | Rutherford County (Unincorporated Areas).
| Approximately 2,420 feet upstream of Panther Creek Road | None | +689
Unnamed Tributary 116 | Confluence with Hurricane Creek | None | +673 | Rutherford County (Unincorporated Areas).
| Approximately 4,310 feet upstream of Jacobs Road | None | +743
Unnamed Tributary 118 | Confluence with Hurricane Creek | None | +711 | Rutherford County (Unincorporated Areas).
| Approximately 3,350 feet upstream of confluence with Hurricane Creek | None | +730
Unnamed Tributary 119 | Confluence with Hurricane Creek | None | +722 | Rutherford County (Unincorporated Areas).
| Approximately 1,240 feet upstream of confluence with Hurricane Creek | None | +732
Unnamed Tributary 124 | Confluence with Murray Branch | None | +676 | Rutherford County (Unincorporated Areas).
| Approximately 4,000 feet upstream of confluence with Murray Branch | None | +708
Unnamed Tributary 126 | Confluence with Murray Branch | None | +709 | Rutherford County (Unincorporated Areas).
| Approximately 1,670 feet upstream of Gum Puckett Road | None | +751
Unnamed Tributary 133 | At the Rutherford/Cannon County Boundary | None | +614 | Rutherford County (Unincorporated Areas).
| Approximately 1,960 feet upstream of the Rutherford/Cannon County Boundary | None | +625
Unnamed Tributary 141 | Approximately 1,750 feet upstream of the confluence with Stewart Creek | None | +567 | Rutherford County (Unincorporated Areas).
| Approximately 2,130 feet upstream of E. North Creek Road | None | +594
Unnamed Tributary 143 | Approximately 800 feet downstream of Almaville Road | None | +571 | Rutherford County (Unincorporated Areas).
| Approximately 1 mile upstream of Almaville Road | None | +640
Unnamed Tributary 144 | Approximately 750 feet upstream of the confluence with Stewart Creek | None | +578 | Rutherford County (Unincorporated Areas).
| Approximately 2.4 miles upstream of Almaville Road | None | +713
Unnamed Tributary 150 | Confluence with Christmas Creek | None | +698 | Rutherford County (Unincorporated Areas).
| Approximately 610 feet upstream of confluence with Christmas Creek | None | +698
Unnamed Tributary 177 | Confluence with Harpeth River | None | +721 | Rutherford County (Unincorporated Areas).
| Approximately 2,970 feet upstream of confluence with Harpeth River | None | +733
Unnamed Tributary 179 | Confluence with Harpeth River | None | +722 | Rutherford County (Unincorporated Areas).
| Approximately 2,710 feet upstream of confluence with Harpeth River | None | +729
Unnamed Tributary 182 | Confluence with Finch Branch | None | +585 | City of Lavergne.
| Approximately 400 feet upstream of Akin Street | None | +610
Unnamed Tributary 183 | Approximately 490 feet upstream of confluence with Finch Branch | None | +544 | City of Lavergne.
| Approximately 1,790 feet upstream of Louisville and Nashville Railroad | None | +585
Unnamed Tributary 184 | Approximately 1,000 feet upstream of E Sam Ridley Parkway | None | +513 | Town of Smyrna.
| Approximately 3,700 feet upstream of E Sam Ridley Parkway | None | +524
Unnamed Tributary 185 | Confluence with Cheatham Branch | None | +778 | City of Eagleville.
| Approximately 450 feet upstream of Spring Street | None | +812
Unnamed Tributary to West Fork Stones River | Approximately 1,010 feet downstream of Kimbro Road | None | +626 | Rutherford County (Unincorporated Areas).
| Approximately 1,460 feet upstream of Kimbro Road | None | +632
Wades Branch | Confluence with East Fork Stones River | *531 | +527 | Rutherford County (Unincorporated Areas).
| Approximately 3.1 miles upstream of State Route 102 | None | +593
West Fork Stones River | Approximately 360 feet downstream of Walnut Grove Road | None | +675 | Rutherford County (Unincorporated Areas).
| Approximately 1.8 miles upstream of Midland Fosterville Road | None | +765
ADDRESSES
City of Eagleville:
Maps are available for inspection at P.O. Box 68, Eagleville, TN 37060.
Send comments to The Honorable Nolan Barham Sr., Mayor, City of Eagleville, P.O. Box 68, Eagleville, TN 37060.
City of Lavergne:
Maps are available for inspection at 5093 Murfreesboro Road, La Vergne, TN 37068
Send comments to The Honorable Sherry Green, Mayor, City of La Vergne, 5093 Murfreesboro Road, La Vergne, TN, 37086.
City of Murfreesboro:
Maps are available for inspection at P.O. Box 1139, Murfreesboro, TN 37133
Send comments to The Honorable Tommy Bragg, Mayor, City of Murfreesboro, P.O. Box 1139, Murfreesboro, TN 37133.
Town of Smyrna:
Maps are available for inspection at 315 South Lowery Street, Smyrna, TN 37167
Send comments to The Honorable Bobby Spivey, Mayor, Town of Smyrna, 315 South Lowery Street, Smyrna, TN 37167.
Unincorporated Areas of Rutherford County:
Maps are available for inspection at 1 Public Square South, Murfreesboro, TN 37130.
Send comments to The Honorable Nancy Allen, Mayor, Rutherford County, 1 Public Square, Room 101, Murfreesboro, TN 37130.
Shelby County, Tennessee and Incorporated Areas
Harrington Lateral C Creek | At Bartlett Road | *257 | +257 | City of Bartlett, Shelby County (Uninc. Areas).
| At Hawethorn Road | *280 | +280
Harrington Creek Lateral D | At the confluence of Harrington Creek | *263 | +259 | City of Bartlett, Shelby County (Uninc. Areas).
| At Elmore Park Road | *273 | +275
Wolf Creek Lateral J | At Shelton Road | *292 | +296 | City of Collierville, Shelby County (Uninc. Areas).
| At Peterson Lake Road | *297 | +298
ADDRESSES
Unincorporated Areas of Shelby County:
Maps are available for inspection at the Department of Engineering, 160 North Main Street, Memphis, TN 38103.
City of Arlington:
Maps are available for inspection at Arlington City Hall, 5854 Airline Road, Arlington, TN 38002.
Send comments to The Honorable Russell Wiseman, Mayor, City of Arlington, P.O. Box 507, Arlington, TN 38002.
City of Bartlett:
Maps are available for inspection at Bartlett City Hall, 3585, Altrutial Road, Bartlett, TN 38134.
Send comments to The Honorable Keith McDonald, Mayor, City of Bartlett, 6400 Stage Road, Bartlett TN 38134.
City of Collierville:
Maps are available for inspection at Department of Public Services, 500 Keough Road, Collierville, TN 38017.
Send comments to The Honorable Linda Kerley, Mayor, City of Collierville, 101 Walnut Street, Collierville, TN 38017.
City of Germantown:
Maps are available for inspection at Department of Engineering, 1920 South Germantown Road, Germantown, TN 38138.
Send comments to The Honorable Sharon Goldsworthy, Mayor, City of Germantown, 1930 South Germantown Road, Germantown, TN 38138.
City of Lakeland:
Maps are available for inspection at Lakeland City Hall, 10001 Highway 70, Lakeland, TN 38002.
Send comments to The Honorable Scoot Carmichael, Mayor, City of Lakeland, 10001 Highway 70, Lakeland, TN 38002.
City of Memphis:
Maps are available for inspection at Department of Engineering, 125 North Mid American Mall, Memphis, TN 38103.
Send comments to The Honorable Willie Herenton, Mayor, City of Memphis, 125 North Main Street, Suite 700, Memphis, TN 38103.
City of Millington:
Maps are available for inspection at Millington City Hall, 7930 Nelson Street, Millington, TN 38053.
Send comments to The Honorable Terry Jones, Mayor, City of Millington, TN 38083.)
# Depth in feet above ground.
*National Geodetic Vertical Datum.
+North American Vertical Datum.
+( ) Pond Elevation in North American Vertical Datum.
(Note: NGVD + .069 = NAVD).

(Catalog of Federal Domestic Assistance No. 83.100, “Flood Insurance.”)

Dated: March 20, 2006.
David I. Maurstad,
Acting Director, Mitigation Division, Federal Emergency Management Agency, Department of Homeland Security.

[FR Doc. E6-4363 Filed 3-24-06; 8:45 am]

BILLING CODE 9110-12-P